DEPARTMENT OF THE INTERIOR

Bureau of Indian Affairs

[189A2100DD/AAKC001030/A0A51010.999900]

Proclaiming Certain Lands as Reservation for the Rincon Band of Luiseno Mission Indians of the Rincon Reservation, California

AGENCY: Bureau of Indian Affairs, Interior.

ACTION: Notice of Reservation Proclamation.

SUMMARY: This notice informs the public that the Principal Deputy Assistant Secretary—Indian Affairs proclaimed approximately 520 acres, more or less, an addition to the reservation of the Rincon Band of Luiseno Mission Indians of the Rincon Reservation, California on July 9, 2018.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 5110) for the lands described below. The land was proclaimed to be part of the reservation for the Rincon Band of Luiseno Mission Indians of the Rincon Reservation, California, County of San Diego, and State of California.

Reservation for the Rincon Band of Luiseno Mission Indians of the Rincon Reservation, California

One Tribal Trust Tract Encompasses Two Parcels

San Bernardino Base and Meridian San Diego County, California

Legal Descriptions Containing 520 Acres, More or Less

The Mowry Property (Tract 587-T-5532)

Parcel 1: APN 133-190-04

The South half, the West half of the Northeast quarter, the Northeast quarter of the Northeast quarter and the Northeast quarter of the Northwest quarter of Section 36, Township 10 South, Range 1 West, San Bernardino Base and Meridian in the County of San Diego, State of California, according to official plat thereof.

Parcel 2: APN 133-190-07

The Southeast quarter of the Northeast quarter of Section 36, Township 10 South, Range 1 West, San Bernardino Base and Meridian, in the County of San Diego, State of California, according to official plat thereof.

The above described lands contain a total of 520 acres, more or less, which are subject to all valid rights, reservations, rights-of-way, and easements of record.

This proclamation does not affect title to the lands described above, nor does it affect any valid existing easement for public roads and highways, public utilities, railroads, pipelines, or any other valid easement or rights-of-way or reservation of record.

Dated: July 9, 2018.
John Tahsuda,
Principal Deputy Assistant Secretary—Indian Affairs Exercising the Authority of the Assistant Secretary—Indian Affairs.

[FR Doc. 2018-16584 Filed 8-1-18; 8:45 am]

BILLING CODE 4337-15-P